NUCLEAR REGULATORY COMMISSION

Sunshine Notice; Meeting

AGENCY HOLDING THE MEETING: Nuclear Regulatory Commission.

DATE: Weeks of February 11, 18, 25, March 4, 11, 18, 2002.

PLACE: Commissioners' Conference Room, 11555 Rockville Pike, Rockville, Maryland.

STATUS: Public and Closed.

MATTERS TO BE CONSIDERED:

Week of February 11, 2002

There are no meetings scheduled for the Week of February 11, 2002.

Week of February 18, 2002—Tentative

Tuesday, February 19, 2002

1:55 p.m.—Affirmation Session (Public Meeting)

2:00 p.m.—Meeting with the Advisory Committee on the Medical Uses of Isotopes (ACMUI) (Public Meeting) (Contact: Angela Williamson 301-415-5030)

This meeting will be webcast live at the Web address— www.nrc.gov

Week of February 25, 2002—Tentative

Friday, March 1, 2002

9:30 a.m.—Briefing Status of Office of the Chief Financial Officer (OCFO) Programs, Performance and Plans (Public Meeting) (Contact: Lars Solander, 301-415-6080)

This meeting will be webcast live at the Web address— www.nrc.gov

Week of March 4, 2002—Tentative

Monday March 4, 2002

2:00 p.m.—Briefing on Status of Nuclear Waste Safety (Public Meeting) (Contact: Claudia Seelig, 301-415-7243)

This meeting will be webcast live at the Web address— www.nrc.gov

Week of March 11, 2002—Tentative

There are no meetings scheduled for the Week of March 11, 2002.

Week of March 18, 2002—Tentative

Tuesday, March 19, 2002

9:30 a.m.—Briefing on Office of Nuclear Regulatory Research (RES) Programs, Performance, and Plans (Public Meeting) (Contact: James Johnson, 301-415-6802)

This meeting will be webcast live at the Web address— www.nrc.gov

Wednesday, March 20, 2002

9:25 a.m.—Affirmation session (Public Meeting) (If needed)

9:30 a.m.—Meeting with Advisory Committee on Nuclear Waste (ACNW) (Public Meeting) (Contact: John Larkins, 301-415-7360)

This meeting will be webcast live at the Web address— www.nrc.gov

* The schedule for Commission meetings is subject to change on short notice. To verify the status of meetings call (recording)—(301) 415-1292. Contact person for more information: David Louis Gamberoni (301) 415-1651.

Additional Information

By a vote of 5-0 on February 4, the Commission determined pursuant to U.S.C. 552b(e) and § 9.107(a) of the Commission's rules that “Discussion of Security Issues (Closed—Ex. 1)” be held on February 5, and on less than one week's notice to the public.

By a vote of 5-0 on February 5 and 6, the Commission determined pursuant to U.S.C. 552b(e) and § 9.107(a) of the Commission's rules that “Affirmation of (1) private Fuel Storage (Independent Spent Fuel Storage installation) Docket No. 72-22; Review of LBP-01-37, (2) Duke Cogema Stone & Webster (Savannah River Mixed Oxide Fuel Fabrication Facility); Applicant's Petition for Interlocutory Review, (3) Dominion Nuclear Connecticut, Inc. (Millstone Nuclear Power Station, Unit No. 3; Facility Operating License NPF-49), and (4) Duke Energy Corp. (McGuire Nuclear Station, Units 1&2; Catawba Nuclear Station, Units 1 & (2), LBP-02-04—Memorandum and Order Ruling on Standing and Contentions (Jan. 24, 2002)” be held on February 6, and on less than one week's notice to the public.

The NRC Commission Meeting Schedule can be found on the Internet at: www.nrc.gov

This notice is distributed by mail to several hundred subscribers; if you no longer wish to receive it, or would like to be added to the distribution, please contact the Office of the Secretary, Washington D.C. 20555 (301-415-1969). In addition, distribution of this meeting notice over the Internet system is available. If you are interested in receiving this Commission meeting schedule electronically, please send an electronic message to dkw@nrc.gov.

Dated: February 7, 2002.
David Louis Gamberoni,
Technical Coordinator, Office of the Secretary.

[FR Doc. 02-3502 Filed 2-8-02; 12:17 pm]

BILLING CODE 7590-01-M